LIBRARY OF CONGRESS

U.S. Copyright Office

[Docket No. 2014-5]

The Compendium of U.S. Copyright Office Practices

AGENCY: U.S. Copyright Office, Library of Congress.

ACTION: Register of Copyrights releases the Compendium of U.S. Copyright Office Practices, Third Edition.

SUMMARY: The U.S. Copyright Office (the “Office”) is announcing the release of its administrative manual, the Compendium of U.S. Copyright Office Practices, Third Edition (the “Third Edition”). It is available on the Office's Web site and is effective as of December 22, 2014.

DATES: The Compendium of U.S. Copyright Office Practices, Third Edition is available on the Office's Web site as of December 22, 2014.

FOR FURTHER INFORMATION CONTACT: Robert Kasunic, Associate Register and Director of Registration Policy and Practice, U.S. Copyright Office, P.O. Box 70400, Washington, DC 20024-0400. Telephone (202) 707-8040.

SUPPLEMENTARY INFORMATION: The Compendium of U.S. Copyright Office Practices is the administrative manual of the Register of Copyrights concerning the mandate and statutory duties of the Copyright Office under title 17 of the United States Code. It serves as both a technical manual for the Office's staff, as well as a guidebook for authors, copyright licensees, practitioners, scholars, the courts, and members of the general public.

On August 20, 2014 the Office released a public draft of this manual titled, Compendium of U.S. Copyright Office Practices, Third Edition. 79 FR 49343. The first major revision in more than two decades, the Third Edition is a comprehensive overhaul that makes the practices and standards of the Office more accessible and transparent to the public and sets the stage for a number of long-term improvements in registration and recordation policy.

The Office is now announcing the release of the official version of the Third Edition. It is available on the Office's Web site at http://copyright.gov/comp3/. The Third Edition is effective as of December 22, 2014 and is the governing administrative manual for registrations and recordations issued by the Office on or after that date.

Dated: December 19, 2014.
Robert Kasunic,
Associate Register of Copyrights and Director of the Office of Registration Policy and Practice.

[FR Doc. 2014-30415 Filed 12-30-14; 8:45 am]

BILLING CODE 1410-30-P